FEDERAL COMMUNICATIONS COMMISSION

Sunshine Act Meeting

May 3, 2001.

Open Commission Meeting, Thursday, May 10, 2001

The Federal Communications Commission will hold an Open Meeting on the subjects listed below on Thursday, May 10, 2001, which is scheduled to commence at 9:30 a.m. in Room TW-C305, at 445 12th Street, SW., Washington, DC.

Item No., Bureau, and Subject

1—Common Carrier—Title: Federal-State Joint Board on Universal Service (CC Docket No. 96-45); and Multi-Association Group (MAG) Plan for Regulation of Interstate Services of Non-Price Cap Incumbent Local Exchange Carriers and Interexchange Carriers (CC Docket No. 00-256). Summary: The Commission will consider a Fourteenth Report and Order and Twenty-First Order on Reconsideration in CC Docket No. 96-45 and a Report and Order in CC Docket No. 00-256 concerning a proposal to reform federal high-cost universal service support mechanisms for rural carriers.

2—Mass Media—Title: Cross-Ownership of Broadcast Stations and Newspapers; and Newspaper/Radio Cross-Ownership Waiver Policy (MM Docket No. 96-197). Summary: The Commission will consider a Notice of Proposed Rule Making proposing to modify, eliminate, or retain its rule that prohibits common ownership of broadcast stations and newspapers within the same geographic area.

3—Office of Engineering and Technology—Title: Amendment of Part 15 of the Commission's Rules Regarding Spread Spectrum Devices (ET Docket No. 99-231); and Wi-LAN, Inc., Application for Certification of an Intentional Radiator Under Part 15 of the Commission's Rules (DA 00-2317). Summary: The Commission will consider a Further Notice of Proposed Rule Making and Order proposing changes to remove unnecessary regulatory barriers to the introduction of new wireless devices using spread spectrum and other digital technologies. The Commission will also review the staff's denial of an application for equipment certification filed by Wi-LAN, Inc.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at http://www.fcc.gov/realaudio/. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Magalie Roman Salas,
Secretary.

[FR Doc. 01-11750 Filed 5-7-01; 11:03 am]

BILLING CODE 6712-01-M